DEPARTMENT OF HEALTH AND HUMAN SERVICES

[Document Identifier: OS-0990-New; 60-Day Notice]

Agency Information Collection Request 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above email address within 60-days.

Proposed Project: Multi-Component Evaluation of the BodyWorks Program—OMB No. 0990-NEW- Office on Women's Health (OWH)

Abstract: Office on Women's Health (OWH) is requesting clearance for a multi-component 3.5 year evaluation of the BodyWorks Program. The required forms will support three evaluation tasks: (1) Conducting a one-time follow-up study of trainers and parents previously involved in BodyWorks; (2) Conducting a onetime pilot test of a post-only survey tool to be added to the BodyWorks toolkit/resources; and, (3) conducting a full evaluation of the revised BodyWorks program, including pre, post and follow-up components as well as similar tests of the Spanish BodyWorks program.

Estimated Annualized Burden Table
Type of respondent | Data collection name | Number of respondents | Number of responses per respondent | Average burden per response (in hrs.) | Total burden hours
BodyWorks program participants | Parent/Caregiver Follow-Up Study Questionnaire | 450 | 1 | 10/60 | 75
| Parent/Caregiver Follow-Up Study Focus Group | 18 | 1 | 60/60 | 18
| English and Spanish Participant Exit Survey—Post Only Pilot Study | 100 | 1 | 10/60 | 17
| English and Spanish Participant Pretest—Full Evaluation | 408 | 1 | 20/60 | 136
| English and Spanish Participant Posttest—Full Evaluation | 300 | 1 | 20/60 | 100
| English and Spanish Participant Follow-up—Full Evaluation | 256 | 1 | 20/60 | 85
| English and Spanish Participant Session Feedback Forms (up to 10 forms)—Full Evaluation | 300 | 10 | 5/60 | 250
English and Spanish BodyWorks program comparison group participants | English and Spanish Participant Pretest—Full Evaluation | 408 | 1 | 20/60 | 136
| English and Spanish Participant Posttest—Full Evaluation | 300 | 1 | 20/60 | 100
| English and Spanish Participant Follow-up—Full Evaluation | 256 | 1 | 20/60 | 85
Trainers of the BodyWorks program | Trainer Follow-Up Study Questionnaire | 1,250 | 1 | 20/60 | 417
| Trainer Follow-Up Study Interview | 15 | 1 | 60/60 | 15
| Trainer Exit Survey Satisfaction Interview—Post only pilot study | 10 | 1 | 30/60 | 5
| Trainer Feedback Forms (up to 10 forms)—Full Evaluation | 30 | 10 | 5/60 | 25
Total Project Burden Hours |  |  |  |  | 1,464

Seleda Perryman,
Office of the Secretary, Paperwork Reduction Act Clearance Officer.

[FR Doc. 2011-3442 Filed 2-15-11; 8:45 am]

BILLING CODE 4150-33-P